DEPARTMENT OF HOUSING AND URBAN DEVELOPMENT

[Docket No. FR-4837-D-10]

Delegation of Authority for Rural Housing and Economic Development Grants Awarded to Indian Tribes and Tribal Entities

AGENCY: Office of the Secretary, HUD.

ACTION: Notice of delegation of authority.

SUMMARY: In this notice, the Secretary delegates to the Assistant Secretary for Public and Indian Housing the authority to administer Rural Housing and Economic Development (RHED) grants awarded to Indian tribes and tribal entities by HUD's Office of Community Planning and Development.

EFFECTIVE DATE: July 9, 2003.

FOR FURTHER INFORMATION CONTACT: Edward Fagan, Office of Native American Programs, Office of Public and Indian Housing, Department of Housing and Urban Development, 451 Seventh Street, SW., Room 4126, Washington DC 20410-5000; telephone (202) 401-7914. (This is not a toll-free number.) For those needing assistance, this number may be accessed through TTY by calling the toll-free Federal Information Relay Service at 1-800-877-8339.

SUPPLEMENTARY INFORMATION: The Rural Housing and Economic Development (RHED) program provides funding to Indian tribes, state housing finance agencies, state community and/or economic development agencies, local rural nonprofits, and community development corporations to support innovative housing and economic development activities in rural areas. The program is authorized in annual HUD appropriations acts and was originally authorized in the Fiscal Year (FY) 1998 HUD Appropriation Act (Pub. L. 105-65, 111 Stat. 1344, 1357, approved Oct. 27, 1997). The RHED program is administered by the Assistant Secretary for Community Planning and Development. Because the Office of Native American Programs is in the Office of Public and Indian Housing, the authority for management of RHED grants awarded to Indian tribes and tribal entities by the Office of Community Planning and Development is delegated to the Assistant Secretary for Public and Indian Housing as follows:

Section A. Authority Delegated

The Secretary of HUD delegates to the Assistant Secretary for Public and Indian Housing the authority to administer RHED grants awarded to Indian tribes and tribal entities.

Section B. Authority Excepted

The authority delegated under Section A does not include the authority to sue and be sued, or the authority to issue or waive regulations for the RHED program.

Section C. Authority to Redelegate

The authority delegated under Section A may be further redelegated to employees of the Department through written redelegations of authority.

Authority: Section 7(d), Department of Housing and Urban Development Act (42 U.S.C. 3535(d)).

Dated: July 9, 2003.
Mel Martinez,
Secretary.

[FR Doc. 03-18184 Filed 7-17-03; 8:45 am]

BILLING CODE 4210-32-P